DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project

Clinical Pharmacy Demonstration Project Evaluation: NEW

The Clinical Pharmacy Demonstration Projects, a supplemental grant opportunity for health center networks, were established to evaluate the impact of comprehensive pharmacy services on the patients served by Health Resources and Services Administration (HRSA) supported programs. The overarching mission is to demonstrate the effect of implementing comprehensive pharmacy services in underserved populations. By collecting data regarding health outcomes and the level of pharmacy services provided, the Office of Pharmacy Affairs hopes to establish the provision of comprehensive pharmacy services as a key to improving access and eliminating health disparities.

The grantee networks will provide valuable pharmacy services to patients, and in the process generate data that will demonstrate the effect of the projects on health outcomes. Patient encounter data will be collected (baseline and semi-annual) for diabetic patients who receive clinical pharmacy services. In addition, each participating pharmacy will complete survey instruments (baseline, annual) for utilization, financial, and process data which describe the program. These data will result in the following: the creation of a database to document the nationwide impact of implementing comprehensive pharmacy services through the Clinical Pharmacy Demonstration Projects in underserved areas; and, information sources for the sharing of best practices, with the ultimate goal of aiding other health center networks in the implementation of comprehensive pharmacy services.

The estimated burden is as follows:

Form name | Number of respondents | Responses per respondent | Hours per response | Total burden hours
Baseline | 1400 | 1 | .33 | 462
Encounter data | 1400 | 4 | .16 | 933
Pharmacy Survey | 14 | 3 | 1 | 42
Total | 1414 |  |  | 1437

Send comments to Susan G. Queen, Ph.D., HRSA Reports Clearance Officer, Room 14-22, Parklawn Building, 5600 Fishers Lane, Rockville, MD 20857. Written comments should be received within 60 days of this notice.

Dated: February 27, 2001.
Jane M. Harrison,
Director, Division of Policy Review and Coordination.

[FR Doc. 01-5224 Filed 3-2-01; 8:45 am]

BILLING CODE 4160-15-P